ENVIRONMENTAL PROTECTION AGENCY

[EPA-HQ-OW-2006-0138, 0136 and 0139; EPA-HQ-OW-2002-0053 and 0064; and EPA-HQ-OW-2003-0011; FRL-8041-4]

Agency Information Collection Activities; Proposed Collection; Comment Request on Six Information Collection Requests (ICRs)

AGENCY: Environmental Protection Agency (EPA).

ACTION: Notice.

SUMMARY: In compliance with the Paperwork Reduction Act (PRA) (44 U.S.C. 3501 et seq.), this document announces that EPA is planning to submit a request to renew existing approved Information Collection Requests (ICR) to the Office of Management and Budget (OMB). Before submitting the ICRs to OMB for review and approval, EPA is soliciting comments on specific aspects of the proposed information collections as described below.

DATES: Comments must be submitted on or before May 8, 2006.

ADDRESSES: Submit your comments, identified by the Docket ID numbers provided for each item in the text, by one of the following methods:

• www.regulations.gov: Follow the online instructions for submitting comments.

• E-mail: ow-docket@epa.gov (Identify Docket ID No. in the subject line)

• Mail: Water Docket, Environmental Protection Agency, Mailcode: 4203M, 1200 Pennsylvania Ave., NW., Washington, DC 20460. Please include a total of three copies.

• Hand Delivery: EPA Docket Center, EPA West, Room B102, 1301 Constitution Avenue, NW., Washington, DC. Such deliveries are only accepted during the Docket's normal hours of operation, and special arrangements should be made for deliveries of boxed information.

Instructions: Direct your comments identified by the Docket ID numbers provided for each item in the text. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Lynn Stabenfeldt, Office of Wastewater Management, 4201M, Environmental Protection Agency, 1200 Pennsylvania Ave., NW., Washington, DC 20460; telephone number: 202.564.0602; fax number: 202.501.2399; e-mail address: stabenfeldt.lynn@epa.gov.

SUPPLEMENTARY INFORMATION:

How Can I Access the Docket and/or Submit Comments?

EPA has established a public docket for each of the ICRs identified in this document (see the Docket ID. Numbers for each ICR that are provided in the text), which is available for online viewing at www.regulations.gov, or in person viewing at the Water Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activities or ICRs Does This Apply to?

Applications for National Pollutant Discharge Elimination System Discharge Permits and the Sewage Sludge Management Permits, EPA ICR No. 0226.18, OMB Control No. 2040-0086; Notice of Intent for Storm Water Discharges Associated with Construction Activity under a NPDES General Permit, EPA ICR No. 1842.05, OMB Control No. 2040-0188; NPDES Storm Water Program Phase II, EPA ICR No. 1820.04, OMB Control No. 2040-0211; NPDES and ELG Regulatory Revision for Concentrated Animal Feeding Operations, EPA ICR No. 1989.03, OMB Control No. 2040-0250; NPDES Modification and Variance Requests, EPA ICR No. 0029.09, OMB Control No. 2040-0068; NPDES and Sewage Sludge Management State Programs, EPA ICR No. 0168.09, OMB Control No. 2040-0057.

Docket ID No. EPA-HQ-OW-2006-0138

Affected entities: Entities potentially affected by this action are publicly owned treatment works (POTWs), privately owned treatment works, new and existing manufacturing and commercial dischargers, storm water dischargers, treatment works treating domestic sewage (TWTDS), and other entities that apply for NPDES permits.

Title: Applications for National Pollutant Discharge Elimination System Discharge Permits and the Sewage Sludge Management Permits.

ICR numbers: EPA ICR No. 0226.18, OMB Control No. 2040-0086.

ICR status: This ICR is currently scheduled to expire on June 30, 2006. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This ICR calculates the burden and costs associated with permit applications for NPDES discharges and sewage sludge management activities. EPA uses the data contained in applications and supplemental information requests to set appropriate permit conditions, issue permits, and assess permit compliance. EPA maintains certain national application information in databases that assist permit writers in determining permit conditions. For most permits, EPA has developed standard application forms. In some cases, such as requests for additional information and storm water applications from municipal separate sewer systems, standard forms do not exist because standard forms are not appropriate for the information collected or because they have not been developed. Application forms correspond to the different types of applicants, each form requesting information necessary for issuing permits to the associated applicants. Applicants include POTWs, privately owned treatment works, new and existing manufacturing and commercial dischargers, storm water dischargers, TWTDS, and others. Depending on the application form they are using, applicants may be required to supply information about their facilities, discharges, treatment systems, sewage sludge use and disposal practices, pollutant sampling data, or other relevant information. Section 308 of the Clean Water Act authorizes EPA to request from dischargers any information that may be reasonably required to carry out the objectives and provision of the Act. Under this authority, EPA sometimes requests information supplemental to that contained in permit applications. In its burden and cost calculations, this ICR includes requests for information supplemental to permit applications. Other parts of the Clean Water Act and federal regulations authorize EPA to collect information that supplements permit applications, such as section 403(c). This ICR calculates the burden and costs for all information collection activities associated with applications for permits. Application information is necessary to obtain an NPDES or sewage sludge permit.

Burden Statement: The annual public reporting and recordkeeping burden for this collection of information is estimated to average five hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information. The ICR provides a detailed explanation of the Agency's estimate, which is only briefly summarized here:

Estimated total number of potential respondents: 291,898.

Frequency of response: Once every five years.

Estimated total average number of responses for each respondent: One.

Estimated total annual burden hours: 1,398,737 hours.

Estimated total annual costs: $53,546,023. This includes an estimated burden cost of $53,546,023 and an estimated cost of $0 for capital investment or maintenance and operational costs.

Further, as part of this ICR renewal, EPA plans to transfer 1,244 burden hours from Milestones Plans for the Bleached Papergrade Kraft and Soda Subcategory of the Pulp, Paper and Paperboard Manufacturing Category, EPA ICR No. 1877.03, OMB Control No. 2040-0202, to this ICR, which would bring the estimated total annual burden hours noted above to 1,399,981. The remaining 174 burden hours from EPA ICR No. 1877.03, will be transferred to NPDES Compliance Assessment/Certification Information, EPA ICR No. 1427.07, OMB Control No. 2040-0110. EPA ICR No. 1877.03 subsequently will be phased out.

Docket ID No. EPA-HQ-OW-2003-0011

Affected entities: Entities potentially affected by this action are those which have storm water discharges associated with large construction activity (40 CFR 122.25(b)(14)(x)) to waters of the U.S.

Title: Notice of Intent for Storm Water Discharges Associated with Construction Activity under a NPDES General Permit.

ICR numbers: EPA ICR No. 1842.05, OMB Control No. 2040-0188.

ICR status: This ICR is currently scheduled to expire on June 30, 2006. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This ICR calculates the burden and costs associated with the preparation of the Notice of Intent (NOI) for Storm Water Discharges Associated with Construction Activity under a NPDES General Permit, and the Storm Water Pollution Prevention Plan (SWPPP). EPA uses the data contained in the NOIs to track facilities covered by the storm water general permit and assess permit compliance. EPA has developed a form for construction NOIs. The standard one page form is called: Notice of Intent (NOI) for Storm Water Discharges Associated with Construction Activity Under a NPDES General Permit (EPA Form Number 3510-6). The construction NOI form requires the following information to be submitted, signed, and certified to by an authorized representative of the project:

—Name, address, phone number of the facility.

—Status of the owner/operator (whether federal, state, public, or private).

—Name and location of the project (City, State, ZIP, Latitude, Longitude, County).

—Whether the facility is located on Indian Country Lands.

—Whether a Storm Water Pollution Prevention Plan (SWPPP) has been prepared.

—Optional: location for viewing SWPPP and telephone number for scheduling viewing times: Address, City, State, ZIP.

—The name of the receiving water.

—Estimated construction start date and completion date.

—The estimated area to be disturbed (to nearest acre).

—An estimate of the likelihood of discharge.

—Whether any protected species or critical habitat in the project area.

—Which section of part I.B.3.e(2) of the permit through which permit eligibility with regard to protection of endangered species is satisfied.

Respondents are required to obtain coverage under the NPDES General Permit for storm water discharges associated with construction activity.

Burden Statement: The annual public reporting and recordkeeping burden for this collection of information is estimated to average 38.3 hours per response by large construction NPDES permittees in NPDES-authorized states and territories and 40.5 hours per response for construction activities in states and territories where EPA is the permitting authority. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 201,259.

Frequency of response: Once initially, prior to commencement of construction

Estimated total average number of responses for each respondent: Two.

Estimated total annual burden hours: 7,920,245 hours.

Estimated total annual costs: $264,919,148. This includes an estimated burden cost of $264,919,148 and an estimated cost of $0 for capital investment or maintenance and operational costs.

Docket ID No. EPA-HQ-OW-2002-0053

Affected entities: Entities potentially affected by this action are NPDES permittees, including operators of small municipal separate storm sewer systems, small construction activity, and industrial facilities identified in 40 CFR 122.26(b)(14)(i)-(ix) and (xi) that qualify for a no exposure exemption.

Title: NPDES Storm Water Program Phase II.

ICR numbers: EPA ICR No. 1820.04, OMB Control No. 2040-0211.

ICR status: This ICR is currently scheduled to expire on June 30, 2006. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This ICR calculates the burden and costs associated with the regulation of storm water discharges under Phase II of the NPDES storm water program. Specifically, it calculates the burden for developing and implementing small MS4 storm water permits, small construction (1-5 acres) permits, and submitting a no-exposure certification form (EPA form 3510-11). The ICR also specifies the burden on authorized NPDES States to process and administer the Phase II program.

Burden Statement: The annual public reporting and recordkeeping burden for this collection of information is estimated to average 21 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 327,163.

Frequency of response: Varies.

Estimated total average number of responses for each respondent: Varies.

Estimated total annual burden hours: 4,958,353 hours.

Estimated total annual costs: $142,543,556. This includes an estimated burden cost of $142,543,556 and an estimated cost of $0 for capital investment or maintenance and operational costs.

Docket ID No. EPA-HQ-OW-2006-0136

Affected entities: Entities potentially affected by this action are owners and operators of Concentrated Animal Feeding Operations (CAFOs).

Title: NPDES and ELG Regulatory Revision for Concentrated Animal Feeding Operations.

ICR numbers: EPA ICR No. 1989.03, OMB Control No. 2040-0250.

ICR status: This ICR is currently scheduled to expire on July 31, 2006. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This ICR calculates the burden and costs associated with the NPDES and ELG regulations for Concentrated Animal Feeding Operations (CAFOs). These regulations regulate land application of manure, litter and wastewater generated at CAFO facilities. The rule requires all facilities defined as a CAFO to apply for a NPDES permit.

Burden Statement: The annual public reporting and recordkeeping burden for this collection of information is estimated to average 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 11,941.

Frequency of response: Varies.

Estimated total average number of responses for each respondent: Varies

Estimated total annual burden hours: 1,890,000 hours.

Estimated total annual costs: $7.9 million. This includes an estimated burden cost of $5.0 million and an estimated cost of $2.9 million for capital investment or maintenance and operational costs.

Docket ID No. EPA-HQ-OW-2002-0064

Affected entities: Entities potentially affected by this action are NPDES permit applicants that request a variance or modification of the NPDES or sewage sludge management conditions.

Title: NPDES Modification and Variance Requests.

ICR numbers: EPA ICR No. 0029.09, OMB Control No. 2040-0068.

ICR status: This ICR is currently scheduled to expire on November 30, 2006. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This ICR estimates the burden and costs associated with modifications and variances made to NPDES permits and to National Sewage Sludge Management Program permit requirements. Prior to permit issuance, a NPDES permit applicant may request a variance from the conditions that would normally be imposed on the applicant's discharge. Although any interested party may request a variance, such requests are usually made by the applicant. An applicant must submit information so the permitting authority can assess whether the facility is eligible for a variance, and what deviation is necessary. Once a NPDES or sludge-only permit is issued, a facility is subject to the permit limits and conditions for the life of the permit. However, events may occur during this period that would render the permit limits or conditions inappropriate. Responding to such events may require a modification of the NPDES or sewage sludge management permit conditions. The causes that can lead to permit modifications are established in 40 CFR 122.62 and 122.63. The regulations specify information a facility must report in order for EPA to determine whether a permit modification is warranted. Each provision requires similar information.

Burden Statement: The annual public reporting and recordkeeping burden for this collection of information is estimated to average 23 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 13,137.

Frequency of response: On occasion.

Estimated total average number of responses for each respondent: Varies.

Estimated total annual burden hours: 303,997 hours.

Estimated total annual costs: $10,952,021. This includes an estimated burden cost of $10,952,021 and an estimated cost of $0 for capital investment or maintenance and operational costs.

Docket ID No. EPA-HQ-OW-2006-0139

Affected entities: Entities potentially affected by this action are States, Territories, and American Indian Tribal Entities.

Title: NPDES and Sewage Sludge Management State Programs.

ICR numbers: EPA ICR No. 0168.09, OMB Control No. 2040-0057.

ICR status: This ICR is currently scheduled to expire on November 30, 2006. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This ICR estimates the burden and costs associated with NPDES and Sewage Sludge Management State Programs. Under the NPDES program, States, Federally Recognized Indian Tribes, and U.S. Territories, hereafter referred to as States, may acquire the authority to issue permits. These governments have the option of acquiring authority to issue general permits (permits that cover a category or categories of similar discharges). States with existing NPDES programs must submit requests for program modifications to add pretreatment, Federal facilities, or general permit authority. In addition, as Federal statutes and regulations are modified, States must submit program modifications to ensure that their program continues to meet Federal requirements. States have the option of obtaining a sludge management program. This program may be a component of a State NPDES Program, or it may be administered by a separate program.

Burden Statement: The annual public reporting and recordkeeping burden for this collection of information is estimated to average 50.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 613.

Frequency of response: Semi-annually, quarterly, on occasion, every five years, on-going.

Estimated total average number of responses for each respondent: Varies.

Estimated total annual burden hours: 966,966 hours.

Estimated total annual costs: $30,169,349. This includes an estimated burden cost of $30,169,349 and an estimated cost of $0 for capital investment or maintenance and operational costs.

Dated: February 28, 2006.
James A. Hanlon,
Director, Office of Wastewater Management.

[FR Doc. E6-3153 Filed 3-6-06; 8:45 am]

BILLING CODE 6560-50-P